FEDERAL COMMUNICATIONS COMMISSION

47 CFR Part 73

[DA 09-490; MB Docket No. 09-18; RM-11513]

Radio Broadcasting Services; Dulac, LA

AGENCY: Federal Communications Commission.

ACTION: Proposed rule.

SUMMARY: The Audio Division requests comment on a petition filed by Sunburst Media-Louisiana, LLC, licensee of Station KMYO-FM, Channel 244C3, Morgan City, Louisiana, proposing the substitution of FM Channel 230A for vacant Channel 242A at Dulac, Louisiana. The reference coordinates for Channel 230A at Dulac, Louisiana, are 29-20-37 NL and 90-45-16 WL. See Supplementary Information, infra.

DATES: Comments must be filed on or before April 20, 2009, and reply comments on or before May 5, 2009.

ADDRESSES: Federal Communications Commission, 445 Twelfth Street, SW., Washington, DC 20554. In addition to filing comments with the FCC, interested parties should serve the petitioner, his counsel, or consultant, as follows: Mark N. Lipp, Esq., Scott Woodworth, Esq., Wiley Rein LLP, 1776 K Street, NW., Washington, DC 20006 (Counsel for Sunburst Media-Louisiana, LLC).

FOR FURTHER INFORMATION CONTACT: Andrew J. Rhodes, Media Bureau, (202) 418-2180.

SUPPLEMENTARY INFORMATION: This is a synopsis of the Commission's Notice of Proposed Rule Making, MB Docket No. 09-18, adopted February 25, 2009, and released February 27, 2009. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The proposed channel substitution at Dulac is part of a hybrid application and rulemaking proceeding. In the application (File No. BPH-20090129AMR), Sunburst Media-Louisiana proposes the upgrade of Channel 244C3 to Channel 244C2 at Morgan City, Louisiana, the reallotment of Channel 244C2 to Gray, Louisiana, and the associated modification of the Station KMYO-FM license. See 74 FR 9399 (March 4, 2009).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under Louisiana, is amended by removing 242A and adding Channel 230A at Dulac.

Federal Communications Commission.
John A. Karousos,
Assistant Chief, Audio Division, Media Bureau.

[FR Doc. E9-5398 Filed 3-11-09; 8:45 am]

BILLING CODE 6712-01-P